DEPARTMENT OF THE INTERIOR

Fish and Wildlife Service

[FWS-HQ-FAC-2018-N090; FXGO1664091HCC0-FF09D00000-189]

Hunting and Shooting Sports Conservation Council Meeting

AGENCY: Fish and Wildlife Service, Interior.

ACTION: Notice of meeting.

SUMMARY: We, the U.S. Fish and Wildlife Service (Service), announce a public meeting of the Hunting and Shooting Sports Conservation Council (HSSCC), in accordance with the Federal Advisory Committee Act. The HSSCC's purpose is to provide recommendations to the Federal Government, through the Secretary of the Interior and the Secretary of Agriculture, regarding policies and endeavors that benefit wildlife resources; encourage partnership among the public; sporting conservation organizations; and Federal, state, tribal, and territorial governments; and benefit recreational hunting and recreational shooting sports.

DATES: Meeting: Wednesday, July 11, 2018, from 10:30 a.m. to 5 p.m. The meeting is open to the public. Deadline for Attendance or Participation: For security purposes, signup or request for accommodations is required no later than July 3, 2018. For more information, contact the HSSCC Designated Federal Officer (see FOR FURTHER INFORMATION CONTACT). For participation during the meeting, see Public Input under SUPPLEMENTARY INFORMATION.

ADDRESSES: Meeting Location: Department of the Interior, South Penthouse, 1849 C Street NW, Washington, DC 20240.

Comment Submission: You may submit written comments in advance of the meeting by emailing them to the HSSCC Designated Federal Officer (see FOR FURTHER INFORMATION CONTACT).

FOR FURTHER INFORMATION CONTACT: Douglas Hobbs, Designated Federal Officer, HSSCC, by telephone at (703) 358-2336, or by email at doug_hobbs@fws.gov. The U.S. Fish and Wildlife Service is committed to providing access to this meeting for all participants. Please direct all requests for sign language interpretation service, closed captioning, or other accommodations to Douglas Hobbs by close of business on Friday, July 3, 2018. If you are hearing impaired or speech impaired, contact Douglas Hobbs via the Federal Relay Service at 800-877-8339.

SUPPLEMENTARY INFORMATION: We, the U.S. Fish and Wildlife Service (Service), announce a public meeting of the Hunting and Shooting Sports Conservation Council (HSSCC). The HSSCC was established to further the provisions of the Fish and Wildlife Act of 1956 (16 U.S.C. 742a), the Federal Land Policy and Management Act of 1976 (43 U.S.C. 1701), the National Wildlife Refuge System Improvement Act of 1997 (16 U.S.C. 668dd), other Acts applicable to specific bureaus, and Executive Order 13443 (August 17, 2007), “Facilitation of Hunting Heritage and Wildlife Conservation.” The council's membership is composed of 18 discretionary members. The HSSCC's purpose is to provide recommendations to the Federal Government, through the Secretary of the Interior and the Secretary of Agriculture, regarding policies and endeavors that (a) benefit wildlife resources; (b) encourage partnership among the public; sporting conservation organizations; Federal, state, tribal, and territorial governments; and (c) benefit recreational hunting and recreational shooting sports.

Meeting Agenda

• Overview and update on the implementation of outdoor recreation Secretarial Orders.

• Update from Department of the Interior and Department of Agriculture and bureaus from both agencies regarding efforts to create or expand hunting and recreational shooting opportunities on Federal lands.

• Overview of Federal programs that benefit species and habitat conservation and outdoor recreation opportunities, particularly hunting and the shooting sports.

• Public comment period.

The final agenda and other related meeting information will be posted on the HSSCC website at http://www.fws.gov/hsscc. The Designated Federal Officer will maintain detailed minutes of the meeting, which will be posted for public inspection within 90 days after the meeting at http://www.fws.gov/hsscc.

Public Input

If you wish to: | You must contact the Council Designated Federal Officer (see FOR FURTHER INFORMATION CONTACT) no later than:
Attend the meeting | July 3, 2018.
Submit written information before the meeting for the Council to consider during the meeting | July 3, 2018.
Give an oral presentation during the public comment period | July 3, 2018.

Submitting Written Information

Interested members of the public may submit relevant information for the Council to consider during the public meeting. Written statements must be received by the date in Public Input, so that the information may be made available to the Council for their consideration prior to this meeting. Written statements must be supplied to the Council Designated Federal Officer in the following formats: One hard copy with original signature, and/or one electronic copy via email (acceptable file formats are Adobe Acrobat PDF, MS Word, MS PowerPoint, or rich text file).

Giving an Oral Presentation

Depending on the number of people wishing to comment and the time available, the amount of time for individual oral comments may be limited. Interested parties must contact the Council Designated Federal Officer, in writing (preferably via email; see FOR FURTHER INFORMATION CONTACT), to be placed on the public speaker list for this meeting. Registered speakers who wish to expand upon their oral statements, or those who had wished to speak but could not be accommodated on the agenda, may submit written statements to the Council Designated Federal Officer up to 30 days following the meeting. Requests to address the Council during the public comment period will be accommodated in the order the requests are received.

Availability of Public Comments

Before including your address, phone number, email address, or other personal identifying information in your comment, you should be aware that your entire comment—including your personal identifying information—may be made publicly available at any time. While you can ask us in your comment to withhold your personal identifying information from public review, we cannot guarantee that we will be able to do so.

Authority: Federal Advisory Committee Act (5 U.S.C. Appendix 2).

Dated: May 7, 2018.
Greg Sheehan,
Principal Deputy Director.

[FR Doc. 2018-13563 Filed 6-22-18; 8:45 am]

BILLING CODE 4333-15-P